DEPARTMENT OF HOMELAND SECURITY

Federal Emergency Management Agency

[Docket ID FEMA-2011-0018]

All-Hazard Position Task Books for Type 3 Incident Management Teams

AGENCY: Federal Emergency Management Agency; DHS.

ACTION: Notice of availability; request for comments.

SUMMARY: The All-Hazard Position Task Books for Type 3 Incident Management Teams were developed to assist personnel achieve qualifications in the All-Hazard Incident Command System (ICS) positions. The position task books supplement the qualification requirements contained in the National Incident Management System (NIMS), Job Titles.

DATES: Comments must be received by November 3, 2011.

ADDRESSES: You may submit comments, identified by Docket ID FEMA-2011-0018, by one of the following methods:

Federal eRulemaking Portal: http://www.regulations.gov. Follow the instructions for submitting comments.

E-mail: FEMA-POLICY@dhs.gov. Include Docket ID FEMA-2011-0018 in the subject line of the message.

Fax: 703-483-2999.

Mail/Hand Delivery/Courier: Legislation, Regulations, & Policy Division, Office of Chief Counsel, Federal Emergency Management Agency, Room 835, 500 C Street, SW., Washington, DC 20472.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Tom Smith, National Integration Center, National Preparedness Directorate, Protection and National Preparedness, 500 C Street, SW., Washington, DC 20472. Phone: 202-646-3850 or e-mail: FEMA-NIMS@dhs.gov.

SUPPLEMENTARY INFORMATION: The All-Hazard Position Task Books for Type 3 Incident Management Teams were developed to assist personnel achieve qualifications in the All-Hazard ICS positions. The position task books also provide the documentation necessary for agencies and organizations to evaluate their personnel and certify their personnel as qualified to the positions. The position task books supplement the qualification requirements contained in the NIMS Job Titles, which specify any Education, Training, Experience, Physical/Medical Fitness, Currency, and Licensure/Certification for each position. The position task books have been derived from National Wildfire Coordinating Group position task books to leverage their successful experience in managing the qualifications of their personnel. The position task books in this initial group contain:

1. Incident Commander.

2. Public Information Officer.

3. Safety Officer.

4. Liaison Officer.

5. Operations Section Chief.

6. Planning Section Chief

7. Finance/Administration Section Chief.

8. Logistics Section Chief.

9. Service Branch Director/Support Branch Director.

10. Branch Director (Operations Section).

11. Division/Group Supervisor.

12. Unit Leader.

13. Strike Team/Task Force Leader.

14. Technical Specialist.

The All-Hazard Position Task Books for Type 3 Incident Management Teams are available for reviewing at http://www.regulations.gov under docket ID FEMA-2011-0018. FEMA is accepting comments during this public comment period and will incorporate them, as appropriate, to finalize and release the All-Hazard Position Task Books for Type 3 Incident Management Teams.

Authority: 6 U.S.C. 320.

Dated: September 20, 2011.
W. Craig Fugate,
Administrator, Federal Emergency Management Agency.

[FR Doc. 2011-25578 Filed 10-3-11; 8:45 am]

BILLING CODE 9111-46-P